NATIONAL CREDIT UNION ADMINISTRATION

Sunshine Act: Notice of Agency Meeting

TIME AND DATE: 10:00 a.m., Thursday, November 17, 2016.

PLACE: Board Room, 7th Floor, Room 7047, 1775 Duke Street (All visitors must use Diagonal Road Entrance), Alexandria, VA 22314-3428.

STATUS: Open.

MATTERS TO BE CONSIDERED: 1. Share Insurance Fund Quarterly Report.

2. NCUA's Rules and Regulations, Community Development Revolving Loan Fund.

3. 2017/2018 Operating Budget.

4. Board Briefing, 2017 Overhead Transfer Rate.

5. Board Briefing, Share Insurance Fund Equity Ratio Projections and 2017 Premium Range.

FOR FURTHER INFORMATION CONTACT: Gerard Poliquin, Secretary of the Board, Telephone: 703-518-6304.

Gerard Poliquin,
Secretary of the Board.

[FR Doc. 2016-27543 Filed 11-10-16; 4:15 pm]

BILLING CODE 7535-01-P